DEPARTMENT OF TRANSPORTATION

Federal Railroad Administration

[Docket No. FRA-2010-0028]

CSX Transportation's Request for Testing Approval on Its Certified Positive Train Control System

AGENCY: Federal Railroad Administration (FRA), U.S. Department of Transportation (DOT).

ACTION: Notice of availability and request for comments.

SUMMARY: This document provides the public with notice that on August 22, 2021, CSX Transportation (CSX) submitted its Test Request for Trip Optimizer Air Brake Control (TO Air Brake Control), Revision 1, dated August 22, 2021, to FRA. CSX asks FRA to approve its Test Request so that it may test its TO Air Brake Control on track that has been equipped with positive train control (PTC).

DATES: FRA will consider comments received by December 20, 2021 before taking final action on the Test Request. FRA may consider comments received after that date to the extent practicable and without delaying implementation of valuable or necessary modifications to a PTC system.

ADDRESSES: All comments concerning this proceeding should identify the agency name and Docket Number FRA-2010-0028, and may be submitted on http://www.regulations.gov. Follow the online instructions for submitting comments. For convenience, all active PTC dockets are hyperlinked on FRA's website at https://railroads.dot.gov/train-control/ptc/ptc-annual-and-quarterly-reports. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: On June 21, 2021, FRA certified CSX's Interoperable Electronic Train Management System (I-ETMS) PTC system per Title 49 Code of Federal Regulations (CFR) Section 236.1015. Pursuant to 49 CFR 236.1035, CSX must request FRA-approval of any regression testing of a certified PTC system that is conducted on the general rail system. See 49 CFR 236.1035(a). CSX's Test Request describes the level of testing of its TO Air Brake Control required to confirm that the air brake control feature design, implementation, and safety mitigations comply with the document requirements outlined in the I-ETMS Onboard Segment Requirements Specifications.

CSX's Test Request are available for review online at www.regulations.gov (Docket No. FRA-2010-0028). Interested parties are invited to comment on the Test Request by submitting written comments or data. During its review of the Test Request, FRA will consider any comments or data submitted. 49 CFR 236.1011(e). However, FRA may elect not to respond to any particular comment and, under 49 CFR 236.1009(d)(3), FRA maintains the authority to approve or disapprove the Test Request at its sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2021-22911 Filed 10-20-21; 8:45 am]

BILLING CODE 4910-06-P